SOCIAL SECURITY ADMINISTRATION

Agency Information Collection Activities: Comment Request

The Social Security Administration (SSA) publishes a list of information collection packages requiring clearance by the Office of Management and Budget (OMB) in compliance with Public Law (Pub. L.) 104-13, the Paperwork Reduction Act of 1995, effective October 1, 1995. This notice includes revisions to OMB-approved information collections.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Reports Clearance Officer to the addresses or fax numbers shown below: (OMB) Office of Management and Budget, Attn: Desk Officer for SSA, Fax: 202-395-6974, E-mail address: OIRA_Submission@omb.eop.gov. (SSA) Social Security Administration, DCBFM, Attn: Reports Clearance Officer, 1332 Annex Building, 6401 Security Blvd., Baltimore, MD 21235, Fax: 410-965-6400, E-mail address: OPLM.RCO@ssa.gov.

SSA has submitted the information collection we list below to OMB for clearance. Your comments on the information collection would be most useful if OMB and SSA receive them within 30 days from the date of this publication. To be sure we consider your comments, we must receive them no later than August 19, 2009. You can obtain a copy of the OMB clearance package by calling the SSA Reports Clearance Officer at 410-965-3758 or by writing to the above e-mail address.

Integrated Registration Services (IRES) System—20 CFR 401.45—0960-0626

The IRES System verifies the identity of individuals, businesses, organizations, entities, and government agencies to use SSA's eService Internet and telephone applications for requesting and exchanging business data with SSA. The requestor provides information, prescribed by SSA, to establish his or her identity. Once SSA verifies identity, IRES will issue the requestor a user identification number (User ID) and a password to conduct business with SSA. Respondents are employers and third party submitters of wage data, business entities providing taxpayer identification information, and data exchange partners conducting business in support of SSA programs.

Type of Request: Revision of an OMB-approved information collection.

Respondent types | Number of respondents | Average burden per response (minutes) | Estimated annual burden (hours)
Appointed Representatives Registering via Internet | 200,000 | 5 | 16,667
All Other Business Services Online (BSO) Respondents Registering via Internet | 1,300,000 | 5 | 108,333
Appointed Representatives Registering via CSA | 88,000 | 11 | 16,133
All Other BSO Respondents Registering via CSA | 120,794 | 11 | 22,146
Total | 1,708,794 |  | 163,279

Dated: July 15, 2009.
John Biles,
Reports Clearance Officer, Center for Reports Clearance, Social Security Administration.

[FR Doc. E9-17224 Filed 7-17-09; 8:45 am]

BILLING CODE 4191-02-P